ENVIRONMENTAL PROTECTION AGENCY

40 CFR Part 52

Approval and Promulgation of Implementation Plans

CFR Correction

In Title 40 of the Code of Federal Regulations, part 52 (§ § 52.01 to 52.1018), revised as of July 1, 2001, § 52.120 is corrected by removing paragraph (c)(94)(i)(E).

[FR Doc. 01-55534 Filed 12-26-01; 8:45 am]

BILLING CODE 1505-01-D